NUCLEAR REGULATORY COMMISSION

[Louisiana License LA-7396-L01]

Gulf Coast International Inspection, Inc.— Houma, LA; Environmental Assessment, Finding of No Significant Impact, and Notice of Opportunity for a Hearing

The Nuclear Regulatory Commission is considering authorizing Gulf Coast International Inspection, Inc. (Gulf Coast) an exemption to use pipeliners on lay barges in the Gulf of Mexico.

Environmental Assessment

Identification of the Proposed Action

Gulf Coast International Inspection Incorporated (Gulf Coast) is licensed by the State of Louisiana to conduct industrial radiography operations. They have requested, in their letter dated November 16, 1999, that the United States Nuclear Regulatory Commission (NRC) grant them reciprocity and an exemption from 10 CFR 34.20 (a)(1) to use their pipeliner type radiography cameras (pipeliners) for pipeline radiography on lay barges in areas under exclusive federal jurisdiction in the Gulf of Mexico. Pipeliners are older model radiography cameras that do not meet the requirements of 10 CFR 34.20(a)(1) which requires equipment used in industrial radiographic operations to meet the requirements in ANSI N432-1980, “Radiological Safety for the Design and Construction of Apparatus for Gamma Radiography (ANSI N432-1980),” (published as NBS Handbook 136, issued January 1981). Gulf Coast is allowed to conduct similar operations in the State of Louisiana under an exemption granted in license number LA-7396-L01.

Need for the Proposed Action

The exemption is needed so that Gulf Coast can carry out its business of pipeline radiography on lay barges for the continuation of pipeline operations in the oil and gas industry. Gulf Coast contends that due to the design of the lay barges and the limited space that is available, the pipeliner is the only device that will keep up with production on a lay barge and provide a safe working environment for their radiographers and surrounding barge personnel.

Environmental Impacts of the Proposed Action

There will be no significant environmental impact from the proposed action due to the fact that no material is being released into the environment and all of the material is wholly contained within the radiography camera which is only used in a fully enclosed radiography stall on a lay barge. During normal operation the radiation dose will not be significantly greater than an approved radiography camera's normal operating external radiation dose levels.

Alternatives to the Proposed Action

As required by Section 102(2)(E) of NEPA (42 U.S.C. 4322(2)(E)), possible alternatives to the final action have been considered. The only alternative is to deny the exemption. This option was not considered practical because there would be no gain in protecting the human environment. Denying the exemption request would force Gulf Coast to revert to radiography cameras that are designed to meet ANSI N432-1980, but these cameras are not practical for radiography operations on a lay barge. These newer cameras would be similar to the pipeliners in that their radioactive material is housed as a sealed source and there would be no release of material to the environment. However, these newer cameras have associated equipment, such as a drive cable and guide tube, that would require additional space to perform radiography on pipelines. This equipment becomes cumbersome and may get in the way as the pipe is moved through the lay barge. In the newer devices, the sealed source would have to be cranked out of the shielded position in the camera housing through a guide tube to the exposure head location where the radiograph takes place. This “crank out” action causes the source to be unshielded while the source is cranked out to the exposure head. This results in an increase in the “restricted area” boundary causing a greater potential for non-radiography personnel on the lay barge to become exposed to radiation.

Alternative Use of Resources

No alternative use of resources was considered due to the reasons stated above.

Agencies and Persons Consulted

The State of Louisiana was contacted by telephone on August 7, 2000 regarding this proposed action. The State of Louisiana is in agreement with the proposed action and had no additional comments.

Identification of Sources Used

Letter from Gulf Coast International Inspection, Inc. to U.S. Nuclear Regulatory Commission, Region IV, Re: Louisiana License No. LA-7396-L01, dated November 16, 1999.

Finding of No Significant Impact

Based on the above environmental assessment, the Commission has concluded that environmental impacts that would be created by the proposed action would not have a significant effect on the quality of the human environment and does not warrant the preparation of an Environmental Impact Statement. Accordingly, it has been determined that a Finding of No Significant Impact is appropriate.

Gulf Coast's application is available for inspection and copying for a fee in the Region IV Public Document Room, 611 Ryan Plaza Drive, Suite 400, Arlington, TX 76011-8064. The documents may also be viewed in the Agency-wide Documents Access and Management System (ADAMS) located on the NRC website at www.nrc.gov.

Opportunity for a Hearing

Any person whose interest may be affected by the issuance of this action may file a request for a hearing. Any request for hearing must be filed with the Office of the Secretary, U.S. Nuclear Regulatory Commission, Washington, DC 20555, within 30 days of the publication of this notice in the Federal Register; be served on the NRC staff (Executive Director for Operations, One White Flint North, 11555 Rockville Pike, Rockville, Maryland 20852), and on the licensee (Gulf Coast International Inspection, Inc., 227 Clendenning Road, Houma, LA 70363); and must comply with the requirements for requesting a hearing set forth in the Commission's regulations, 10 CFR Part 2, Subpart L, “Information Hearing Procedures for Adjudications in Materials Licensing Proceedings.”

These requirements, which the request must address in detail, are:

1. The interest of the requestor in the proceeding;

2. How that interest may be affected by the results of the proceeding (including the reasons why the requestor should be permitted a hearing);

3. The requestor's areas of concern about the licensing activity that is the subject matter of the proceeding; and

4. The circumstances establishing that the request for hearing is timely—that is, filed within 30 days of the date of this notice.

In addressing how the requestor's interest may be affected by the proceeding, the request should describe the nature of the requestor's right under the Atomic Energy Act of 1954, as amended, to be made a party to the proceeding; the nature and extent of the requestor's property, financial, or other (i.e., health, safety) interest in the proceeding; and the possible effect of any order that may be entered in the proceeding upon the requestor's interest.

Dated at Rockville, Maryland, this 15th day of August, 2000.
For the Nuclear Regualtory Commission.
John W.N. Hickey,
Chief, Material Safety and Inspection Branch, Division of Industrial and Medical Nuclear Safety, Office of Nuclear Material Safety and Safeguards.

[FR Doc. 00-21884 Filed 8-25-00; 8:45 am]

BILLING CODE 7590-01-P